DEPARTMENT OF STATE

[Public Notice 6139]

Determination and Waiver of Section 690(a) of the Department of State, Foreign Operations, and Related Programs Appropriations Act, 2008 (Div. J, Pub. L. 110-161) Relating to Assistance for Egypt

Pursuant to the authority vested in me as Deputy Secretary of State by the laws of the United States, including section 690 of the Department of State, Foreign Operations, and Related Programs Appropriations Act, 2008 (Div. J, Pub. L. 110-161)(SFOAA) and Department of State Delegation of Authority No. 245, I hereby determine it is in the national security interest of the United States to waive the restriction in section 690(a) of the SFOAA, and I hereby waive such restriction.

This determination shall be reported to the Congress and published in the Federal Register.

Dated: February 29, 2008.
John D. Negroponte,
Deputy Secretary of State, Department of State.

[FR Doc. E8-5692 Filed 3-19-08; 8:45 am]

BILLING CODE 4710-31-P